RAILROAD RETIREMENT BOARD

Notice of Guidance Portal

AGENCY: Railroad Retirement Board.

ACTION: Establishment of portal to guidance documents.

SUMMARY: The Railroad Retirement Board has established a guidance portal on the agency website at https://rrb.gov/guidance, from which all agency guidance documents may be accessed.

FOR FURTHER INFORMATION CONTACT: Marguerite P. Dadabo, Assistant General Counsel, Railroad Retirement Board, 844 North Rush Street, Chicago, Illinois 60611-1275, (312) 751-4945, (TTD) (312) 751-4701.

SUPPLEMENTARY INFORMATION: Executive Order 13891, issued October 9, 2019, and OMB Memorandum 20-02, issued October 31, 2019, require each agency by February 28, 2020 to establish a single, searchable, indexed website that contains, or links to, all of the agencies' guidance documents currently in effect. The Railroad Retirement Board has established the required guidance portal on its website, https://rrb.gov/guidance.

Dated: February 24, 2020.
Stephanie Hillyard,
Secretary to the Board.

[FR Doc. 2020-04030 Filed 2-26-20; 8:45 am]

BILLING CODE P